DEPARTMENT OF TRANSPORTATION

Federal Aviation Administration

14 CFR Part 39

[Docket No. FAA-2011-0719; Directorate Identifier 2010-NM-087-AD; Amendment 39-17074; AD 2012-11-11]

RIN 2120-AA64

Airworthiness Directives; The Boeing Company Airplanes

AGENCY: Federal Aviation Administration (FAA), DOT.

ACTION: Final rule.

SUMMARY: We are superseding an existing airworthiness directive (AD) for certain The Boeing Company Model 767-200, -300, and -400ER series airplanes. That AD currently requires replacing the separation link assembly on the applicable entry and service doors with an improved separation link assembly, and doing related investigative and corrective actions if necessary. This new AD adds an airplane to the applicability and removes certain other airplanes. This AD was prompted by a report that an additional airplane is subject to the unsafe condition. We are issuing this AD to prevent failure of an entry or service door to open fully in the event of an emergency evacuation, which could impede exit from the airplane. This condition could result in injury to passengers or crewmembers.

DATES: This AD is effective July 12, 2012.

The Director of the Federal Register approved the incorporation by reference of a certain publication listed in the AD as of July 12, 2012.

The Director of the Federal Register approved the incorporation by reference of certain other publications listed in this AD as of April 2, 2009 (74 FR 8717, February 26, 2009).

ADDRESSES: For service information identified in this AD, contact Boeing Commercial Airplanes, Attention: Data & Services Management, P.O. Box 3707, MC 2H-65, Seattle, WA 98124-2207; telephone 206-544-5000, extension 1; fax 206-766-5680; email me.boecom@boeing.com; Internet https://www.myboeingfleet.com. You may review copies of the referenced service information at the FAA, Transport Airplane Directorate; 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Kimberly DeVoe, Aerospace Engineer, Cabin Safety and Environmental Systems Branch, ANM-150S, FAA, Seattle Aircraft Certification Office, 1601 Lind Avenue SW., Renton, Washington 98057-3356; phone: (425) 917-6495; fax: (425) 917-6590; email: kimberly.devoe@faa.gov.

SUPPLEMENTARY INFORMATION:

Discussion

We issued a notice of proposed rulemaking (NPRM) to amend 14 CFR part 39 to supersede AD 2009-04-12, Amendment 39-15818 (74 FR 8717, February 26, 2009). That AD applies to the specified products. The NPRM published in the Federal Register on July 19, 2011 (76 FR 42607). That NPRM proposed to continue to require replacing the separation link assembly on the applicable entry and service doors with an improved separation link assembly, and doing related investigative and corrective actions if necessary. That NPRM also proposed to add an airplane to the applicability and also remove certain other airplanes from the applicability.

Comments

We gave the public the opportunity to participate in developing this AD. The following presents the comments received on the proposal (76 FR 42607, July 19, 2011) and the FAA's response to each comment.

Request To Remove Certain Airplanes From the Applicability Statement

ANA stated that it has converted seven airplanes to a freighter configuration, not the four that were described in the Actions Since Existing AD Was Issued section of the proposed AD (76 FR 42607, July 19, 2011).

We infer the commenter requested that we revise the applicability of this AD. Airplanes that have been converted to a freighter configuration do not have active escape slides that are affected by the unsafe condition. We have revised paragraph (c) of this AD to apply to airplanes operating in a passenger or passenger/cargo configuration, and to indicate that the requirements of this AD become applicable when an airplane is converted to a passenger or passenger/cargo configuration.

Request To Revise the Description of Certain Service Bulletins

Boeing requested that the description of Boeing Special Attention Service Bulletin 767-25-0428, Revision 2, dated February 4, 2010; and Boeing Special Attention Service Bulletin 767-25-0428, Revision 3, dated October 21, 2010; be revised. Boeing noted that the descriptions given in the Relevant Service Information section of the proposed AD (76 FR 42607, July 19, 2011) do not match the revision descriptions as given in those service bulletins.

We agree to provide clarification. The Relevant Service Information section is intended to describe only major changes made to the service information without describing those changes in detail. In addition, the Relevant Service Information section is not restated in a final rule. Therefore, we have not changed the AD in this regard.

Request To Provide Credit for Accomplishing a Service Bulletin With Information From an Information Notice

United Airlines (UAL) requested that we provide credit for accomplishing Boeing Special Attention Service Bulletin 767-25-0428, Revision 2, dated February 4, 2010; and Boeing Service Bulletin Information Notice 767-25-0428 IN 03, dated May 6, 2010. Boeing Special Attention Service Bulletin 767-25-0428, Revision 3, dated October 21, 2010, includes the information provided in that information notice.

We partially agree. The content of an information notice is not approved by the FAA and is not intended to be used as a basis for deviation from an FAA-approved service bulletin. We have not revised the AD in this regard. However, we have provided credit for accomplishing Boeing Special Attention Service Bulletin 767-25-0428, Revision 2, dated February 4, 2010, in paragraph (h) of this final rule.

Explanation of Changes Made to This AD

We have revised the wording in paragraph (h) of this AD. This change has not affected the intent of that paragraph.

We have removed table 1 of the proposed AD (76 FR 42607, July 19, 2011). Instead, we have added paragraph (g)(3) of this final rule to specify the applicable service information for accomplishing the actions required by paragraph (g) of this AD.

Conclusion

We reviewed the relevant data, considered the comments received, and determined that air safety and the public interest require adopting the AD with the changes described previously—and minor editorial changes. We have determined that these minor changes:

• Are consistent with the intent that was proposed in the NPRM (76 FR 42607, July 19, 2011) for correcting the unsafe condition; and

• Do not add any additional burden upon the public than was already proposed in the NPRM (76 FR 42607, July 19, 2011).

We also determined that this change will not increase the economic burden on any operator or increase the scope of the AD.

Costs of Compliance

We estimate that this AD affects 355 airplanes of U.S. registry.

We estimate the following costs to comply with this AD:

Estimated Costs
Action | Labor cost | Parts cost | Cost per product | Cost on U.S. operators
Replacement (retained actions from AD 2009-04-12, Amendment 39-15818 (74 FR 8717, February 26, 2009)) | Up to 7 work-hours × $85 per hour = $595 | Up to $10,671 | Up to $11,266 | Up to $3,999,430.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-04-12, Amendment 39-15818 (74 FR 8717, February 26, 2009), and adding the following new AD:

2012-11-11 The Boeing Company: Amendment 39-17074; Docket No. FAA-2011-0719; Directorate Identifier 2010-NM-087-AD.

(a) Effective Date

This airworthiness directive (AD) is effective July 12, 2012.

(b) Affected ADs

This AD supersedes AD 2009-04-12, Amendment 39-15818 (74 FR 8717, February 26, 2009).

(c) Applicability

This AD applies to The Boeing Company Model 767-200, -300, and -400ER series airplanes; operating in a passenger or passenger/cargo configuration; certificated in any category; as identified in Boeing Special Attention Service Bulletin 767-25-0428, Revision 3, dated October 21, 2010. The requirements of this AD become applicable at the time an airplane operating in an all-cargo configuration is converted to a passenger or passenger/cargo configuration.

(d) Subject

Joint Aircraft System Component (JASC)/Air Transport Association (ATA) of America Code 25: Equipment/Furnishings.

(e) Unsafe Condition

This AD was prompted by reports that entry and service doors did not open fully during deployment of emergency escape slides, and reports of missing snap rings. We are issuing this AD to prevent failure of an entry or service door to open fully in the event of an emergency evacuation, which could impede exit from the airplane. This condition could result in injury to passengers or crewmembers.

(f) Compliance

Comply with this AD within the compliance times specified, unless already done.

(g) Retained Replacement

This paragraph restates the requirements of paragraph (f) of AD 2009-04-12, Amendment 39-15818 (74 FR 8717, February 26, 2009). At the applicable time specified in paragraphs (g)(1) and (g)(2) of this AD, replace the separation link assembly on the deployment bar of the emergency escape system on all the applicable entry and service doors with an improved separation link assembly, and do all the applicable related investigative and corrective actions before further flight, by accomplishing all of the applicable actions specified in the Accomplishment Instructions of any service bulletin identified in paragraphs (g)(3)(i) through (g)(3)(iii) of this AD. After April 2, 2009 (the effective date of AD 2009-04-12), only the service bulletins specified in paragraphs (g)(3)(ii) and (g)(3)(iii) of this AD may be used to accomplish the actions required by this paragraph. After the effective date of this AD, only the service bulletin identified in paragraph (g)(3)(iii) of this AD may be used to accomplish the actions required by this paragraph.

(1) For airplanes other than those having variable number VN 137: Within 48 months after April 2, 2009 (the effective date of AD 2009-04-12, Amendment 39-15818 (74 FR 8717, February 26, 2009)).

(2) For the airplane having variable number VN 137: Within 48 months after the effective date of this AD.

(3) Use the following service information, as applicable, to accomplish the actions required by paragraph (g) of this AD.

(i) Boeing Special Attention Service Bulletin 767-25-0428, dated August 23, 2007.

(ii) Boeing Special Attention Service Bulletin 767-25-0428, Revision 1, dated May 8, 2008.

(iii) Boeing Special Attention Service Bulletin 767-25-0428, Revision 3, dated October 21, 2010.

(h) Credit for Previous Actions

This paragraph provides credit for the replacement required by paragraph (g) of this AD, if that replacement was performed before the effective of this AD using Boeing Special Attention Service Bulletin 767-25-0428, Revision 2, dated February 4, 2010.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) AMOCs approved for AD 2009-04-12, Amendment 39-15818 (74 FR 8717, February 26, 2009), are approved as AMOCs for the corresponding provisions of this AD.

(j) Related Information

For more information about this AD, contact Kimberly DeVoe, Aerospace Engineer, Cabin Safety and Environmental Systems Branch, ANM-150S, FAA, Seattle Aircraft Certification Office, 1601 Lind Avenue SW., Renton, Washington 98057-3356; phone: (425) 917-6495; fax: (425) 917-6590; email: kimberly.devoe@faa.gov.

(k) Material Incorporated by Reference

(1) You must use the following service information to do the actions required by this AD, unless the AD specifies otherwise.

(2) The Director of the Federal Register approved the incorporation by reference (IBR) of the following service information under 5 U.S.C. 552(a) and 1 CFR part 51.

(i) The following service information was approved for IBR on July 12, 2012.

(A) Boeing Special Attention Service Bulletin 767-25-0428, Revision 3, dated October 21, 2010.

(ii) The following service information was approved for IBR on April 2, 2009 (74 FR 8717, February 26, 2009).

(A) Boeing Special Attention Service Bulletin 767-25-0428, Revision 1, dated May 8, 2008.

(B) Boeing Special Attention Service Bulletin 767-25-0428, dated August 23, 2007.

(3) For service information identified in this AD, contact Boeing Commercial Airplanes, Attention: Data & Services Management, P.O. Box 3707, MC 2H-65, Seattle, WA 98124-2207; telephone 206-544-5000, extension 1; fax 206-766-5680; email me.boecom@boeing.com; Internet https://www.myboeingfleet.com.

(4) You may review copies of the service information at the FAA, Transport Airplane Directorate, 1601 Lind Avenue SW., Renton, Washington. For information on the availability of this material at the FAA, call 425-227-1221.

(5) You may also review copies of the service information that is incorporated by reference at the National Archives and Records Administration (NARA). For information on the availability of this material at NARA, call 202-741-6030, or go to: http://www.archives.gov/federal-register/cfr/ibr_locations.html.

Issued in Renton, Washington, on May 24, 2012.
Michael Kaszycki,
Acting Manager, Transport Airplane Directorate, Aircraft Certification Service.

[FR Doc. 2012-13554 Filed 6-6-12; 8:45 am]

BILLING CODE 4910-13-P